DEPARTMENT OF COMMERCE

National Oceanic and Atmospheric Administration

[I.D. 042804C]

Marine Mammals; File No. 1054-1731

AGENCY: National Marine Fisheries Service (NMFS), National Oceanic and Atmospheric Administration (NOAA), Commerce.

ACTION: Receipt of application.

SUMMARY: Notice is hereby given that the University of Florida, Aquatic Animal Program, College of Veterinary Medicine, Gainesville, FL 32610 (Ruth Francis-Floyd, DVM, Principal Investigator), has applied in due form for a permit to acquire, import, and export marine mammal specimens for purposes of scientific research.

DATES: Written, telefaxed, or e-mail comments must be received on or before June 7, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1054-1731.

FOR FURTHER INFORMATION CONTACT: Amy Sloan or Jennifer Skidmore, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The general purpose of the research is to study various aspects of disease afflicting marine mammals. Infectious disease investigations include viral pathogens such as West Nile virus, St. Louis Encephalitis virus, herpesvirus, and poxviruses. Other projects include development of a marine mammal histology database and atlas, research on the effects of boat strikes on cetacean bone, and investigation into acute phase proteins in cetaceans. Cell lines are proposed to be developed for some projects. The applicant has requested authorization to receive, import, and export specimen samples (hard and soft parts) world-wide from all marine mammals under NMFS jurisdiction (up to 250 samples per species per year). Specimens that would be received, imported, and exported would be taken from the following sources in the U.S. and/or abroad: (1) routine husbandry sampling of captive animals; (2) samples taken from live animals by other permitted/authorized researchers; (3) samples taken from stranded animals; and (4) samples taken from animals during legal subsistence hunts.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: April 30, 2004.
Stephen L. Leathery,
Chief, Permits, Conservation and Education Division, Office of Protected Resources, National Marine Fisheries Service.

[FR Doc. 04-10331 Filed 5-5-04; 8:45 am]

BILLING CODE 3510-22-S